DEPARTMENT OF JUSTICE

[OMB Number 1110-0015]

Agency Information Collection Activities; Proposed eCollection eComments Requested; Revision of a Currently Approved Collection (1-699 and 1-700)

AGENCY: Federal Bureau of Investigation, Department of Justice.

ACTION: 60-day notice.

SUMMARY: The Department of Justice, Federal Bureau of Investigation, Criminal Justice Information Services Division, will be submitting the following information collection request to the Office of Management and Budget (OMB) for review and approval in accordance with the Paperwork Reduction Act of 1995. The proposed information collection is published to obtain comments from the public and affected agencies.

DATES: Comments are encouraged and will be accepted for 60 days until September 12, 2014.

FOR FURTHER INFORMATION CONTACT: If you have additional comments especially on the estimated public burden or associated response time, suggestions, or need a copy of the proposed information collection instrument with instructions or additional information, please contact Mrs. Amy C. Blasher, Unit Chief, Federal Bureau of Investigation, Criminal Justice Information Services (CJIS) Division, Module E-3, 1000 Custer Hollow Road, Clarksburg, West Virginia 26306; telephone 304-625-4830, facsimile, 304 625-3566.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Revision of a currently approved collection.

2. The Title of the Form/Collection: Quarterly Hate Crime Report and Hate Crime Incident Report.

3. The agency form number, if any, and the applicable component of the Department sponsoring the collection: The form numbers are 1-699 and 1-700. The applicable component within the Department of Justice, the Federal Bureau of Investigation, Criminal Justice Information Services Division.

4. Affected public who will be asked or required to respond, as well as a brief abstract: The affected public who are asked to voluntarily respond is city, county, state, tribal, and federal U.S. law enforcement agencies. Under Title 28, U.S. Code, Section 534, this information collection requests hate crime data from respondents in order for the FBI UCR Program to serve as the national clearinghouse for the collection and dissemination of hate crime data and to publish these statistics annually in “Hate Crime Statistics”. This provides for the national UCR Program a record of each hate crime incident including the offense classification and its respective bias motivation, the number and type of victims, the location of the incident, the number of suspected offenders, the suspected offender's race, and whether the victims and offenders are under 18 or over the age of 18.

5. An estimate of the total number of respondents and the amount of time estimated for an average respondent to respond: There is a potential of 18,290 law enforcement agency respondents; 11,357 for the Summary Reporting System (SRS) and 6,933 for the National Incident-Based Reporting System (NIBRS). NIBRS burden hours are collected on the NIBRS Information Collection Request. Calculated estimates for an SRS respondent to respond indicate 7 minutes per quarter. The total annual burden hour per respondent is 28 minutes. Total Annual Hour Burden: 7 minutes × 4 quarters = 28 minutes.

6. An estimate of the total public burden (in hours) associated with the collection: There are approximately 5,300 hours, annual burden, associated with this information collection.

11,357 respondents × 4 responses/year = 45,428 total annual responses.

45,428 × 7 minutes/60 minutes = 5,300 total annual hour burden.

(This burden estimate does not include the 6,933 NIBRS agencies; the NIBRS burden hours are captured in the NIBRS Information Collection Request.)

If additional information is required contact: Jerri Murray, Department Clearance Officer, United States Department of Justice, Justice Management Division, Policy and Planning Staff, Two Constitution Square, 145 N Street NE., 3E.405, Washington, DC 20530.

Dated: July 9, 2014.
Jerri Murray,
Department Clearance Officer for PRA, U.S. Department of Justice.

[FR Doc. 2014-16383 Filed 7-11-14; 8:45 am]

BILLING CODE 4410-02-P